DEPARTMENT OF TRANSPORTATION

Federal Aviation Administration

14 CFR Part 39

[Docket No. FAA-2008-1201; Directorate Identifier 2008-NM-007-AD; Amendment 39-15922; AD 2009-11-12]

RIN 2120-AA64

Airworthiness Directives; Airbus Model A310 Series Airplanes

AGENCY: Federal Aviation Administration (FAA), Department of Transportation (DOT).

ACTION: Final rule.

SUMMARY: The FAA is superseding an existing airworthiness directive (AD), which applies to certain Airbus Model A310 series airplanes. That AD currently requires repetitive inspections of the fuselage skin to detect corrosion or fatigue cracking around and under the chafing plates of the wing root; repetitive inspections for fatigue cracking of frame 39, stringer 35; and corrective actions if necessary. The existing AD also provides for an optional terminating action for certain repetitive inspections, except for certain areas where corrosion was detected and reworked. This new AD reduces the intervals for accomplishing repetitive inspections in a certain area. This AD results from mandatory continuing airworthiness information originated by an aviation authority of another country to identify and correct an unsafe condition on an aviation product. We are issuing this AD to detect and correct fatigue cracks and corrosion around and under the chafing plates of the wing root, which could result in reduced structural integrity of the airplane.

DATES: This AD becomes effective August 25, 2009.

The Director of the Federal Register approved the incorporation by reference of certain publications listed in the AD as of August 25, 2009.

The Director of the Federal Register previously approved the incorporation by reference of Airbus Service Bulletin A310-53-2070, dated October 3, 1994, on June 3, 1998 (63 FR 23377, April 29, 1998).

ADDRESSES: For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

The FAA issued a notice of proposed rulemaking (NPRM) to amend 14 CFR part 39 to include an AD that supersedes AD 2004-14-06, amendment 39-13715 (69 FR 41401, July 9, 2004). The existing AD applies to certain Airbus Model A310 series airplanes. That NPRM was published in the Federal Register on November 13, 2008 (73 FR 67110). That NPRM proposed to continue to require repetitive inspections of the fuselage skin to detect corrosion or fatigue cracking around and under the chafing plates of the wing root; repetitive inspections for fatigue cracking of frame 39, stringer 35; and corrective actions if necessary. That NPRM also proposed to continue to provide for an optional terminating action for certain repetitive inspections, except for certain areas where corrosion was detected and reworked. In addition, that NPRM proposed to reduce the intervals for accomplishing the repetitive inspections in a certain area.

Comments

We provided the public the opportunity to participate in the development of this AD. We have considered the comment that has been received on the NPRM. FedEx supports the NPRM.

Revisions to Paragraphs (f), (h), (i), and (j) of This AD

We have revised paragraph (h) of this AD to give credit for actions done in accordance with Airbus Service Bulletin A310-53-2070, Revision 1, dated September 23, 1996. We also added Airbus Service Bulletin A310-53-2069, Revision 06, dated May 22, 2007, as an acceptable source of service information for compliance with the requirements of paragraphs (f) and (i) of this AD. We have also revised paragraph (j) of this AD to include a new Table 1 to specify the number, revision, and date of each service bulletin for which no reporting is required.

Conclusion

We reviewed the relevant data, considered the comment received, and determined that air safety and the public interest require adopting the AD with the changes described previously. We also determined that these changes will not increase the economic burden on any operator or increase the scope of the AD.

Costs of Compliance

This AD affects about 69 Model A310 series airplanes of U.S. registry. The actions that are required by AD 2004-14-06 and retained in this AD take about 68 work hours per airplane, at an average labor rate of $80 per work hour. Based on these figures, the estimated cost of the currently required actions is $375,360, or $5,440 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13715 (69 FR 41401, July 9, 2004) and by adding the following new airworthiness directive (AD):

2009-11-12 Airbus: Amendment 39-15922. Docket No. FAA-2008-1201; Directorate Identifier 2008-NM-007-AD.

Effective Date

(a) This AD becomes effective August 25, 2009.

Affected ADs

(b) This AD supersedes AD 2004-14-06.

Applicability

(c) This AD applies to Airbus Model A310 series airplanes, certificated in any category, on which Airbus Modifications 8888 and 8889 have not been accomplished.

Unsafe Condition

(d) This AD results from mandatory continuing airworthiness information originated by an aviation authority of another country to identify and correct an unsafe condition on an aviation product. We are issuing this AD to detect and correct fatigue cracks and corrosion around and under the chafing plates of the wing root, which could result in reduced structural integrity of the airplane.

Compliance

(e) You are responsible for having the actions required by this AD performed within the compliance times specified, unless the actions have already been done.

Requirements of AD 2004-14-06

Repetitive Inspections and Corrective Actions

(f) Except as provided by paragraphs (g), (k), and (l) of this AD: Within 4 years since date of manufacture, or within 12 months after June 3, 1998 (the effective date of AD 98-09-20, amendment 39-10501), whichever occurs later, perform an inspection to detect discrepancies around and under the chafing plates of the wing root, in accordance with the Accomplishment Instructions of Airbus Service Bulletin A310-53-2069, Revision 06, dated May 22, 2007; Revision 05, dated November 12, 2002; Revision 04, dated November 8, 2000; Revision 03, dated October 28, 1997; Revision 2, dated September 23, 1996; or Revision 1, dated September 19, 1995. If any discrepancy is found, prior to further flight, accomplish follow-on corrective actions (i.e., removal of corrosion, corrosion protection, high frequency eddy current inspection, x-ray inspection), as applicable, in accordance with the applicable service bulletin. Repeat the inspections thereafter at the intervals specified in the applicable service bulletin. After August 13, 2004 (the effective date of AD 2004-14-06), repeat the inspections thereafter at the intervals specified in Airbus Service Bulletin A310-53-2069, Revision 04, dated November 8, 2000; Airbus Service Bulletin A310-53-2069, Revision 05, dated November 12, 2002; or Airbus Service Bulletin A310-53-2069, Revision 06, dated May 22, 2007.

(g) If any discrepancy is found during any inspection required by paragraph (f) of this AD, and Airbus Service Bulletin A310-53-2069, Revision 06, dated May 22, 2007; Revision 05, dated November 12, 2002; Revision 04, dated November 8, 2000; Revision 03, dated October 28, 1997; Revision 2, dated September 23, 1996; or Revision 1, dated September 19, 1995; as applicable; specifies to contact Airbus for appropriate action: Prior to further flight, repair in accordance with a method approved by the Manager, International Branch, ANM-116, FAA, Transport Airplane Directorate. Where differences in the compliance times or corrective actions exist between the service bulletin and this AD, the AD prevails.

Optional Terminating Action

(h) Except as provided by paragraph (i) of this AD: Accomplishment of the replacement of the stainless steel chafing plates with new chafing plates made of aluminum alloy, in accordance with Airbus Service Bulletin A310-53-2070, Revision 02, dated November 8, 2000; or the original issue, dated October 3, 1994; constitutes terminating action for the repetitive inspections required by paragraph (f) of this AD. Actions done in accordance with Airbus Service Bulletin A310-53-2070, Revision 1, dated September 23, 1996, are acceptable for compliance with actions required by this AD.

Continuation of Repetitive Inspections

(i) Except as provided by paragraphs (k) and (l) of this AD: Within 30 days after August 13, 2004, do a review of the airplane maintenance records to determine if any corrosion was detected and reworked on the left and/or right side of frame 39, stringer 35, during the accomplishment of any corrective action or repair specified in paragraphs (f) or (g) of this AD. If any corrective action or repair has been accomplished in this area, perform an inspection for fatigue cracking of frame 39, stringer 35, in accordance with the Accomplishment Instructions of Airbus Service Bulletin A310-53-2069, Revision 06, dated May 22, 2007; Revision 05, dated November 12, 2002; or Revision 04, dated November 8, 2000. Do the initial inspection at the threshold specified in Figure 1 of the service bulletin, or within 30 days after August 13, 2004, whichever is later. Repeat the inspection thereafter at the intervals specified in Figure 1 of the service bulletin. If any discrepancy is found, prior to further flight, accomplish the applicable follow-on corrective actions, in accordance with the Accomplishment Instructions of Airbus Service Bulletin A310-53-2069, Revision 06, dated May 22, 2007; Revision 05, dated November 12, 2002; or Revision 04, dated November 8, 2000.

Submission of Information Not Required

(j) Although the service bulletins specified in Table 1 of this AD specify to submit information to the manufacturer, this AD does not include such a requirement.

Table 1—No Reporting Requirement for These Service Bulletins
Airbus Service Bulletin— | Revision— | Dated—
A310-53-2069 | 1 | September 19, 1995.
A310-53-2069 | 2 | September 23, 1996.
A310-53-2069 | 03 | October 28, 1997.
A310-53-2069 | 04 | November 8, 2000.
A310-53-2069 | 05 | November 12, 2002.
A310-53-2069 | 06 | May 22, 2007.
A310-53-2070 | Original | October 3, 1994.
A310-53-2070 | 1 | September 23, 1996.
A310-53-2070 | 02 | November 8, 2000.

New Actions Required by This AD

New Service Bulletin Revision

(k) As of the effective date of this AD, use only the Accomplishment Instructions of Airbus Service Bulletin A310-53-2069, Revision 06, dated May 22, 2007, to do the inspections and corrective actions required by paragraphs (f) and (i) of this AD.

Repetitive Inspections at Frame 39, Stringer 35 at Reduced Intervals

(l) As of the effective date of this AD, if any corrosion is found at frame 39, stringer 35, during any inspection required by this AD, do the repetitive inspections required by paragraphs (f) and (i) of this AD, as applicable, at the earlier of the times specified in paragraphs (l)(1) and (l)(2) of this AD. Repeat the inspections thereafter at intervals specified in Figure 1, Sheets 4 and 5, of Airbus Service Bulletin A310-53-2069, Revision 06, dated May 22, 2007, except as provided by paragraph (m) of this AD.

(1) At the next specified repeat interval specified in paragraph (f) of this AD.

(2) At the later of the times specified in paragraphs (l)(2)(i) and (l)(2)(ii) of this AD, except as provided by paragraph (m) of this AD.

(i) At the applicable threshold specified in Figure 1, Sheets 4 and 5, of Airbus Service Bulletin A310-53-2069, Revision 06, dated May 22, 2007.

(ii) Within 900 flight cycles or 1,800 flight hours after the effective date of this AD, whichever occurs first.

(m) Where Figure 1, Sheets 4 and 5, of Airbus Service Bulletin A310-53-2069, Revision 06, dated May 22, 2007, specifies to contact Airbus, do the inspections at threshold and repeat intervals approved by either the Manager, International Branch, ANM-116, Transport Airplane Directorate, FAA; or the European Aviation Safety Agency (EASA) (or its delegated agent).

Alternative Methods of Compliance (AMOCs)

(n) The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue SW., Renton, Washington 98057-3356; telephone (425) 227-1138; fax (425) 227-1149. Before using any approved AMOC on any airplane to which the AMOC applies, notify your appropriate principal inspector (PI) in the FAA Flight Standards District Office (FSDO), or lacking a PI, your local FSDO.

Related Information

(o) European Aviation Safety Agency (EASA) Airworthiness Directive 2007-0292, dated November 27, 2007, also addresses the subject of this AD.

Material Incorporated by Reference

(p) You must use Airbus Service Bulletin A310-53-2069, Revision 06, dated May 22, 2007, as applicable, to do the actions required by this AD, unless the AD specifies otherwise. If you accomplish the optional terminating action specified in this AD, you must use the service bulletins specified in Table 2 of this AD, as applicable, unless the AD specifies otherwise.

Table 2—Material Incorporated by Reference for Optional Actions Specified in This AD
Airbus Service Bulletin— | Revision— | Dated—
A310-53-2070 | 02 | November 8, 2000.
A310-53-2070 | Original | October 3, 1994.

Airbus Service Bulletin A310-53-2070, Revision 02, dated November 8, 2000, contains the following effective pages:

Page No. | Revision level shown on page | Date shown on page
1-13, 15-16, 21-22 | 02 | November 8, 2000.
14, 17-18 | 1 | September 23, 1996.
19-20 | Original | October 3, 1994.

(1) The Director of the Federal Register approved the incorporation by reference of the service information contained in Table 3 of this AD under 5 U.S.C. 552(a) and 1 CFR part 51.

Table 3—New Material Incorporated by Reference
Airbus Service Bulletin— | Revision— | Dated—
A310-53-2069 | 06 | May 22, 2007.
A310-53-2070 | 02 | November 8, 2000.

(2) The Director of the Federal Register previously approved the incorporation by reference of Airbus Service Bulletin A310-53-2070, dated October 3, 1994, on June 3, 1998 (63 FR 23377, April 29, 1998).

(3) For service information identified in this AD, contact Airbus SAS-EAW (Airworthiness Office), 1 Rond Point Maurice Bellonte, 31707 Blagnac Cedex, France; telephone +33 5 61 93 36 96; fax +33 5 61 93 44 51; e-mail: account.airworth-eas@airbus.com; Internet http://www.airbus.com.

(4) You may review copies of the service information at the FAA, Transport Airplane Directorate, 1601 Lind Avenue, SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, on July 2, 2009.
Ali Bahrami,
Manager, Transport Airplane Directorate, Aircraft Certification Service.

[FR Doc. E9-17122 Filed 7-20-09; 8:45 am]

BILLING CODE 4910-13-P